DEPARTMENT OF ENERGY

Federal Energy Regulatory Commission

Notice of Ferc Staff Attendance at Southwest Power Pool's Synergistic Planning Project Team and Cost Allocation Working Group Meetings

March 20, 2009.

The Federal Energy Regulatory Commission hereby gives notice that members of its staff may attend the meetings of the Southwest Power Pool (SPP) Synergistic Planning Project Team and the SPP Cost Allocation Working Group, as noted below. Their attendance is part of the Commission's ongoing outreach efforts.

SPP Synergistic Planning Project Team Meeting: March 31, 2009 (10 a.m.-3 p.m.), Embassy Suites Outdoor World, 2401 Bass Pro Drive, Grapevine, TX 76051, 972-724-2600.

SPP Cost Allocation Working Group Meeting: April 1, 2009 (10 a.m.-4 p.m.), Embassy Suites Outdoor World, 2401 Bass Pro Drive, Grapevine, TX 76051, 972-724-2600.

The discussions may address matters at issue in the following proceedings:

Docket No. ER06-451, Southwest Power Pool, Inc.,

Docket Nos. ER07-319 and EL07-73, Southwest Power Pool, Inc.,

Docket No. ER07-371, Southwest Power Pool, Inc.,

Docket No. ER07-1255, Southwest Power Pool, Inc.,

Docket No. ER07-1206, Southwest Power Pool, Inc.,

Docket No. ER08-923, Southwest Power Pool, Inc.,

Docket No. ER08-1307, Southwest Power Pool, Inc.,

Docket No. ER08-1308, Southwest Power Pool, Inc.,

Docket No. ER08-1357, Southwest Power Pool, Inc.,

Docket No. ER08-1358, Southwest Power Pool, Inc.,

Docket No. ER08-1419, Southwest Power Pool, Inc.,

Docket No. ER08-1516, Southwest Power Pool, Inc.,

Docket No. ER09-35, Tallgrass Transmission LLC,

Docket No. ER09-36, Prairie Wind Transmission LLC,

Docket No. ER09-262, Southwest Power Pool, Inc.,

Docket No. ER09-342, Southwest Power Pool, Inc.,

Docket No. ER09-548, ITC Great Plains LLC,

Docket No. ER09-574, Southwest Power Pool, Inc.,

Docket No. ER09-575, Southwest Power Pool, Inc.,

Docket No. ER09-639, Southwest Power Pool, Inc.,

Docket No. ER09-714, Southwest Power Pool, Inc.,

Docket No. ER09-715, Southwest Power Pool, Inc.,

Docket No. ER09-748, Southwest Power Pool, Inc.,

Docket No. ER09-758, Southwest Power Pool, Inc.,

Docket No. ER09-778, Southwest Power Pool, Inc.,

Docket No. ER09-659, Southwest Power Pool, Inc.,

Docket No. ER09-681, Green Power Express LP,

Docket No. OA08-5, Southwest Power Pool, Inc.,

Docket No. OA08-60, Southwest Power Pool, Inc.,

Docket No. OA08-61, Southwest Power Pool, Inc.,

Docket No. OA08-104, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E9-6869 Filed 3-26-09; 8:45 am]

BILLING CODE